DEPARTMENT OF JUSTICE

Notice of Lodging of Proposed Consent Decree Under the Clean Air Act

On August 31, 2020, the U. S. Department of Justice (DOJ) lodged a proposed Consent Decree with the United States District Court for the Southern District of Indiana in United States and State of Indiana v. Indianapolis Power & Light Company, Civil Action No. 3:20-cv-202. The lodging of the proposed Decree immediately followed DOJ's filing in the same court of a civil complaint (Complaint) against Indianapolis Power & Light Company (IPL).

The proposed Consent Decree resolves Clean Air Act and related State law claims in the Complaint by the United States on behalf of the U.S. Environmental Protection Agency, and the State of Indiana, by the authority of the Attorney General of Indiana, acting at the request of the Indiana Department of Environmental Management. Under the proposed Decree, IPL agrees, among other things, to undertake measures to reduce pollutant emissions and improve its environmental compliance at the Petersburg Generating Station (Facility) in Pike County, Indiana. In addition, IPL will pay a civil penalty, perform a mitigation project proposing a new, non-emitting source of power to serve the Facility's internal load, and conduct a State-only Environmentally Beneficial Project.

The publication of this notice opens a period for public comment on the proposed Consent Decree. Comments should be addressed to the Assistant Attorney General, Environment and Natural Resources Division, and should refer to United States and State of Indiana v. Indianapolis Power & Light Company, D.J. Ref. No. 90-5-2-1-09897/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Consent Decree may be examined and downloaded at this Justice Department website: http://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $19.00 (25 cents per page reproduction cost), payable to the United States Treasury.

Jeffrey Sands,
Assistant Section Chief, Environmental Enforcement Section, Environment and Natural Resources Division.

[FR Doc. 2020-19691 Filed 9-4-20; 8:45 am]

BILLING CODE 4410-15-P